INTERNATIONAL TRADE COMMISSION

[Inv. No. 337-TA-537]

Certain Weather Stations and Components Thereof; Notice of Commission Decision Not To Review an Initial Determination Terminating the Investigation in Its Entirety Based on Withdrawal of the Complaint

AGENCY: International Trade Commission.

ACTION: Notice.

SUMMARY: Notice is hereby given that the U.S. International Trade Commission has determined not to review the presiding administrative law judge's (“ALJ”) initial determination (“ID”) terminating the above-captioned investigation as to all the respondents on the basis of withdrawal of the complaint.

FOR FURTHER INFORMATION CONTACT: Rodney Maze, Esq., Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This patent-based section 337 investigation was instituted by the Commission based on a complaint filed by Richmond IP Holdings, LLC (“Richmond”), of Richmond, Virginia. 70 FR 19969 (April 15, 2005). Richmond alleged violations of section 337 in the importation into the United States, the sale for importation, and the sale within the United States after importation of certain weather stations and components thereof by reason of infringement of claim 1 of U.S. Patent No. 5,978,738 and claims 26 and 30 of U.S. Patent No. 6,076,044 (“the ‘044 patent”). The complaint and notice of investigation named Hideki Electronics, Inc. of Tualatin, Oregon; Hideki Electronics, Ltd. of Hong Kong; Homedics-U.S.A., Inc. (“Homedics”) of Commerce Township, Michigan; K&P International Holdings Limited of Hong Kong; Springfield Precision Instruments, Inc. (“Springfield”) of Wood Ridge, New Jersey; and Taylor Precision Products, LLC (“Taylor”) of Oak Brook, Illinois as respondents.

On August 3, 2005, Richmond filed a motion to terminate the investigation in part requesting that it be permitted to withdraw the allegations regarding the ‘044 patent. On August 9, 2005, Richmond filed a motion for withdrawal of the entire complaint and termination of the investigation as to all the named respondents.

On August 15, 2005, respondents Hideki Electronics, Inc.; Hideki Electronics, Ltd.; and K&P International Holdings Limited filed a joint response supporting Richmond's motion but requesting that the ALJ issue sanctions against Richmond. On August 19, 2005, the Commission investigative attorney filed a response supporting Richmond's motion to withdraw while opposing sanctions.

On August 22, 2005, respondent Springfield filed a response opposing Richmond's motion to withdraw and terminate the investigation. Springfield also requested that the ALJ defer ruling on the motion so that the Commission could issue a show cause order to Richmond and condition any withdrawal on the payment of attorneys' fees and expenses. Respondents Homedics and Taylor did not file responses to Richmond's motion to withdraw.

On October 12, 2005, the ALJ issued an ID (Order No. 8) granting Richmond's motion for withdrawal of the complaint and termination of the investigation as to all the respondents. No petitions to review the ID were filed. The Commission has determined not to review this ID.

Issued: October 31, 2005.
By order of the Commission.
Marilyn R. Abbott,
Secretary to the Commission.

[FR Doc. 05-22019 Filed 11-3-05; 8:45 am]

BILLING CODE 7020-02-P